DEPARTMENT OF THE INTERIOR

Bureau of Land Management

[F-85448, F-93344-NE; 17X.LLAK9400000.L14100000.HY0000.P]

Alaska Native Claims Selection

AGENCY: Bureau of Land Management, Interior.

ACTION: Notice of decision approving lands for conveyance.

SUMMARY: The Bureau of Land Management (BLM) hereby provides constructive notice that it will issue an appealable decision to Doyon, Limited, approving conveyance of the mineral estate of oil and gas reserved to the United States in certificates of allotment issued for the lands described below. Conveyance of the reserved mineral estate is authorized by the Alaska Native Claims Settlement Act of 1971, as amended (ANCSA).

DATES: Any party claiming a property interest in the lands affected by the decision may appeal the decision in accordance with the requirements of 43 CFR part 4 within the time limits set out in the SUPPLEMENTARY INFORMATION section.

ADDRESSES: A copy of the decision may be obtained from: Bureau of Land Management, Alaska State Office, 222 West Seventh Avenue, #13, Anchorage, Alaska 99513-7504.

FOR FURTHER INFORMATION CONTACT: Christy Favorite, BLM Alaska State Office, at 907-271-5595, or by email at cfavorit@blm.gov. The BLM Alaska State Office may also be contacted via Telecommunications Device for the Deaf (TDD) through the Federal Relay Service at 1-800-877-8339. The relay service is available 24 hours a day, 7 days a week, to leave a message or question with the BLM. The BLM will reply during normal business hours.

SUPPLEMENTARY INFORMATION: As required by 43 CFR 2650.7(d), notice is hereby given that the BLM will issue an appealable decision to Doyon, Limited. The decision approves conveyance of the mineral estate of oil and gas reserved to the United States in certificates of allotment issued for the lands described below. Conveyance of the reserved mineral estate is authorized by ANCSA, as amended (43 U.S.C. 1601, et seq.). The lands are located in the vicinity of Nenana, Alaska, and are described as:

U.S. Survey No. 4071A, Alaska.

Containing 70.04 acres.

U.S. Survey No. 4233B, Alaska.

Containing 39.98 acres.

U.S. Survey No. 4445A, Alaska.

Containing 79.99 acres.

U.S. Survey No. 4453A, Alaska.

Containing 15 acres.

U.S. Survey No. 4467C, Alaska.

Containing 39.98 acres.

U.S. Survey No. 4470C, Alaska.

Containing 40.00 acres.

U.S. Survey No. 4473A, Alaska.

Containing 40.00 acres.

U.S. Survey No. 9972, Alaska.

Containing 5 acres.

U.S. Survey No. 9974, Alaska.

Containing 39.99 acres.

Aggregating 370 acres.

Notice of the decision will also be published once a week for four consecutive weeks in the Fairbanks Daily News-Miner newspaper.

Any party claiming a property interest in the lands affected by the decision may appeal the decision in accordance with the requirements of 43 CFR part 4 within the following time limits:

1. Unknown parties, parties unable to be located after reasonable efforts have been expended to locate, parties who fail or refuse to sign their return receipt, and parties who receive a copy of the decision by regular mail which is not certified, return receipt requested, shall have until December 4, 2017 to file an appeal.

2. Parties receiving service of the decision by certified mail shall have 30 days from the date of receipt to file an appeal.

Parties who do not file an appeal in accordance with the requirements of 43 CFR part 4 shall be deemed to have waived their rights. Notices of appeal transmitted by facsimile will not be accepted as timely filed.

Christy Favorite,
Chief, Adjudication Section.

[FR Doc. 2017-23999 Filed 11-2-17; 8:45 am]

BILLING CODE 4310-JA-P